DEPARTMENT OF HOMELAND SECURITY

[Docket No. FEMA-2022-0028]

Privacy Act of 1974; System of Records

AGENCY: Federal Emergency Management Agency, Department of Homeland Security.

ACTION: Notice of a modified system of records.

SUMMARY: In accordance with the Privacy Act of 1974, the Department of Homeland Security (DHS) proposes to modify and reissue a current DHS system of records titled, “Department of Homeland Security/Federal Emergency Management Agency-011 Training and Exercise Program Records System of Records.” This system of records allows DHS/Federal Emergency Management Agency (FEMA) to collect from and maintain records on current and former FEMA employees and contractors, current and former members of the first responder and emergency management communities, and other individuals who have applied or registered to participate in training and exercise programs or who have assisted with FEMA's training and exercise programs. DHS/FEMA is updating this system of records notice (SORN) to include: (1) Modifying system location; (2) supplementing legal authorities; (3) clarifying the purpose of the SORN; (4) expanding the categories of records; (5) clarifying the sources of records; (6) revising the routine uses; and (7) adjusting the retention and disposal schedule of records. Additionally, this notice includes non-substantive changes to simplify the formatting and text of the previously published notice. This updated system will be included in DHS's inventory of record systems.

DATES: Submit comments on or before November 16, 2022. This modified system will be effective upon publication. New or modified routine uses will be effective November 16, 2022.

ADDRESSES: You may submit comments, identified by docket number FEMA-2022-0028 by one of the following methods: Federal e-Rulemaking Portal: https://www.regulations.gov. Follow the instructions for submitting comments. Fax: 202-343-4010. Mail: Lynn Parker Dupree, Chief Privacy Officer, Privacy Office, U.S. Department of Homeland Security, Washington, DC 20528-0655.

Instructions: All submissions received must include the agency name and docket number FEMA-2022-0028. All comments received will be posted without change to https://www.regulations.gov, including any personal information provided.

Docket: For access to the docket to read background documents or comments received, go to https://www.regulations.gov.

FOR FURTHER INFORMATION CONTACT: For general questions, please contact: Tammi Hines, (202) 212-5100, Senior Director for Information Management, Federal Emergency Management Agency, Department of Homeland Security, Washington, DC 20472. For privacy questions, please contact: Lynn Parker Dupree, (202) 343-1717, Privacy@hq.dhs.gov, Chief Privacy Officer, Privacy Office, U.S. Department of Homeland Security, Washington, DC 20528-0655.

SUPPLEMENTARY INFORMATION:

I. Background

In accordance with the Privacy Act, this modified system of records notice is being published because the Federal Emergency Management Agency (FEMA) collects, maintains, uses, retrieves, and disseminates personally identifiable information of individuals who participate in a wide range of training and exercise programs for its employees and contractors as well as its partners in the first responder, emergency management, and flood insurance communities, including personnel from federal, state, local, tribal, territorial, foreign, or international government agencies. Partners and participants in FEMA trainings often include fire, medical, emergency management, and law enforcement professionals; nongovernmental and volunteer disaster relief organizations; and private sector professionals such as flood insurance representatives. FEMA programs that sponsor and provide this type of training include the National Training and Education Division, including the Emergency Management Institute (EMI) and the Center for Domestic Preparedness (CDP), the National Processing Service Centers, the United States Fire Administration (USFA), the Federal Insurance Mitigation Administration (FIMA) and Mission Support (MS). These programs train participants on situational awareness and emergency management skills necessary to effectively prevent, respond to, recover from, and mitigate all hazards.

FEMA established this system of records in order to collect and maintain personally identifiable information (PII) on individuals who apply, register for, or participate in FEMA training and exercise programs and information on individuals who are points of contact or representatives for the organizations employing or sponsoring these individuals applying or registering for or attending FEMA trainings. FEMA uses this information to facilitate an individual's participation and determine eligibility for training, housing, and stipend reimbursement programs. FEMA also uses this information to compile statistical information and to administer and measure effectiveness of FEMA training and exercise programs. FEMA uses sensitive information to ensure accuracy of academic records, reimburse funds to registered students, and to distinguish the identity of individuals with identical names and birth dates. The type and amount of PII FEMA collects varies depending on the programs. FEMA collects this information through paper forms and electronically through information technology (IT) systems.

FEMA updates the following categories within this system of records:

First, the system location is being modified to include records maintained at CDP Headquarters in Anniston, Alabama and housed within the Center for Domestic Preparedness Training Infrastructure (CDP-TI) system and records housed within the United States Fire Administration Learning Management System (USFA-LMS).

Second, the legal authorities are being supplemented to include the Post-Katrina Emergency Management Reform Act (PKEMRA) and Occupational Safety and Health Administration [OSHA] Personal Protective Equipment (No. 1910.134).

Third, the purpose of the system is being clarified to include assessment of the health and fitness of individuals participating in training exercises. FEMA needs to collect medical capability and physical fitness information for respiratory safety and Occupation Safety and Health Administration (OSHA) compliance.

Fourth, new categories of records are being expanded to include FEMA student identifier (FEMASID), formal education level, military experience, past medical history, body composition, experience with respirators, cardiac and respiratory assessment, hearing and vision assessment, musculoskeletal assessment, pregnancy history, and medication list. FEMA collects formal education level from individuals when they request training or complete course evaluations. FEMA collects military experience (yes/no) to enable CDP to assess any underlying conditions that may not be apparent to the applicant. For instance, military personnel may have been exposed to toxic agent/harsh environments that may impact their respiratory system. This is a required question under OSHA App C. The remaining new categories are additionally required for respiratory safety and Occupation Safety and Health Administration (OSHA) compliance.

Fifth, sources of records are being clarified to include first responders such as current and former fire, medical, emergency management, and law enforcement professionals; nongovernmental and volunteer disaster relief organizations; and private sector professionals such as flood insurance representatives.

Sixth, routine uses E is being revised and routine use F is being added to comply with OMB Memorandum M-17-12 requiring disclosure of information necessary to respond to a breach either of the agency's PII or, as appropriate, to assist another agency in its response to a breach. The incident-related routine uses will help identify what information was potentially compromised, the population of individuals potentially affected, the purpose for which the information had originally been collected, the permitted uses and disclosures of the information, and other information that may be useful when developing the agency's incident response. Existing routine uses I, J, M, and O are being updated to include non-profit/non-governmental entities. Additionally, former Routine Use M is being revised to align with the DHS SORN template. Former Routine Use H has been removed from the System of Records Notice.

Finally, the retention and disposal schedule of records are being adjusted to supersede the original schedules as a result of the National Archives and Records Administration's (NARA) update to the General Records Schedule (GRS) and to comply with Occupational Safety and Health Administration (OSHA) retention requirements for medical records.

The purpose of this system is to facilitate registration, participation, completion, documentation of FEMA's training and exercise programs, including assessment of the health and fitness of individuals participating in training exercises; determine eligibility for training, housing, travel, and stipend reimbursement programs; and compile statistical information to administer and measure effectiveness of FEMA training and exercise programs.

FEMA collects, uses, maintains, retrieves, and disseminates the records within this system under the authority of the Robert T. Stafford Disaster Relief and Emergency Assistance Act, as amended, 42 U.S.C. 5121 et seq.; the Federal Fire Prevention and Control Act of 1974 as amended, 15 U.S.C. 2201 et seq.; 44 U.S.C. 3101; 6 U.S.C. 748; the Post-Katrina Emergency Management Reform Act (PKEMRA) of 2006; Occupational Safety and Health Administration [OSHA] Personal Protective Equipment (No. 1910.134); Homeland Security Presidential Directives, and several Executive Orders, as described in the authorities section of this notice. This updated system of records strengthens privacy protections and provides greater transparency regarding FEMA's training and exercise records by encompassing the full range of the Agency's training and exercise programs into a single system of records. FEMA limits access to the information in this system by verifying the status and “need to know” of individuals registering for and participating in the Agency's training and exercise programs to further safeguard individuals' privacy.

The updated routine uses are compatible with the purpose for original collection of the information; FEMA shares exercise information with other federal agencies when FEMA needs to use the recipient agency's IT system for registration and participation in FEMA's training and exercise programs.

FEMA conducts and hosts training and exercise programs to foster the development of mission critical skills among communities through participation in their programs. FEMA shares exercise and training information with federal, state, local, tribal, territorial, foreign, or international government agencies, nongovernmental/volunteer organizations, and private sector organizations when necessary to facilitate the development of training and exercise programs, coordinate, facilitate, and track participation in training and exercise programs, and for statistical purposes. FEMA also shares academic records such as transcripts with educational institutions; however, FEMA's information sharing with education institutions for transcript purposes only takes place if it is requested by the student.

Consistent with DHS's information-sharing mission, information stored in the DHS/FEMA-011 Training and Exercise Program Records may be shared with other DHS components that have a need to know the information to carry out their national security, law enforcement, immigration, intelligence, or other homeland security functions. In addition, DHS/FEMA may share information with appropriate federal, state, local, tribal, territorial, foreign, international government agencies, and non-profit/non-governmental entities consistent with the routine uses set forth in this system of records notice.

Additionally, the Final Rule to exempt this system of records from certain provisions of the Privacy Act remains unchanged and in effect. This updated system will be included in DHS's inventory of record systems.

II. Privacy Act

The fair information practice principle found in the Privacy Act underpin statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the Judicial Redress Act, along with judicial review for denials of such requests. In addition, the Judicial Redress Act prohibits disclosures of covered records, except as otherwise permitted by the Privacy Act.

Below is the description of the DHS/FEMA-011 Training and Exercise Program Records System of Records.

In accordance with 5 U.S.C. 552a(r), DHS has provided a report of this system of records to the Office of Management and Budget and to Congress.

SYSTEM NAME AND NUMBER:

DHS/FEMA-011 Training and Exercise Program Records.

SECURITY CLASSIFICATION:

Classified and Unclassified.

SYSTEM LOCATION:

Records are maintained at the FEMA Headquarters in Washington, DC, and field offices. Additionally, records are maintained in various FEMA training and exercise information technology (IT) systems, such as the National Emergency Training Center (NETC) Admissions System, United States Fire Administration Learning Management System (USFA-LMS), the Center for Domestic Preparedness Training Infrastructure (CDP-TI), the Independent Study Database System, the FEMA Employee Knowledge Center, and the Radiological Emergency Preparedness Program Online Operation Center.

SYSTEM MANAGER(S):

Director, National Training and Education Division, Federal Emergency Management Agency, Department of Homeland Security, Washington, DC 20472

AUTHORITY FOR MAINTENANCE OF THE SYSTEM:

42 U.S.C. 5196; Federal Fire Prevention and Control Act of 1974, as amended, 15 U.S.C. 2201 et seq.; 44 U.S.C. 3101-3106; 6 U.S.C. 748; Homeland Security Presidential Directive 8; Homeland Security Presidential Directive 5; the Reorganization Plan No. 3 of 1978, 5 U.S.C. 301; 31 U.S.C. 3716; 31 U.S.C. 321, Executive Order No. 13111; Executive Order No. 12148; Executive Order No. 12127; 15 U.S.C. 2206; Chief Financial Officer Bulletin, Financial and Acquisition Management Division, Number 117, June 23, 2003, Subject: Invitational Travel; Executive Order No. 9397 amended by Executive Order No. 13478; and 31 U.S.C. 7701 (1996) Authorize the Collection of the Social Security number; Post-Katrina Emergency Management Reform Act (PKEMRA) of 2006, Public Law 109-295, 120 Stat. 1355, October 4, 2006; and Occupational Safety and Health Administration (OSHA) Personal Protective Equipment (No. 1910.134).

PURPOSE(S) OF THE SYSTEM:

The purpose of this system is to facilitate registration, participation, completion, documentation of FEMA's training and exercise programs, including assessment of the health and fitness of individuals participating in training exercises; determine eligibility for training, housing, travel, and stipend reimbursement programs; and compile statistical information to administer and measure effectiveness of FEMA training and exercise programs.

CATEGORIES OF INDIVIDUALS COVERED BY THE SYSTEM:

Any individual who has applied for, participated in, been named as a reference for, or assisted with a training or exercise program recommended, sponsored, or operated by FEMA. This includes current and former employees of DHS, any other federal government employee or contractor, volunteers, other federal, state, local, tribal, territorial, foreign, or international government agencies, and non-profit/non-governmental personnel. The categories of individuals also include individuals from the private sector and other participants in FEMA training and exercise programs such as instructors, developers, observers, and interpreters.

CATEGORIES OF RECORDS IN THE SYSTEM:

Individual's name (First, Middle, Last, Suffix);

Date of birth;

Social Security number (SSN);

Alternate unique number assigned in lieu of an SSN (if the individual does not have a SSN or doesn't know his or her SSN);

Gender/Sex;

Race and ethnicity (for statistical purposes only);

U.S. Citizenship;

City and country of birth (collected for non-U.S. citizens);

Information related to disabilities requiring special assistance;

Phone numbers;

Email addresses;

Mailing addresses;

Military Rank/Prefix;

Unique user ID (for IT system registration);

Individual's password (for IT system access; only accessible by the individual; disclosed as part of the authentication process);

Individual's security questions and answers (for IT system access);

Individual's employer or organization being represented;

Individual's employment status;

Individual's position title;

Individual's professional certifications;

Category of position;

Years of experience;

Type of experience;

Primary responsibility;

Reason for applying/registering for training/exercise;

Reference point of contact name;

Reference point of contact phone number;

Reference point of contact addresses;

Relationship of individual to the reference point of contact;

Organization type/Jurisdiction (e.g., federal, state, local, tribal, territorial, foreign, or international government agencies);

Organization identification number (non-proprietary);

Number of staff in the organization;

Size of population served by the organization;

Nomination forms;

Registration/Application forms;

Training/Exercise rosters and sign-in sheets;

Training instructor and exercise role lists;

Training/exercise schedules, including location and venue, type, target capabilities, and mission;

Financial information, such as bank routing and account number;

Payment records, including financial, travel, and related expenditures;

Examination and testing materials;

Grades and student evaluations;

Course and instructor critiques;

Reports pertaining to and resulting from training and exercises;

Formal education level

Military experience

Medical capability/Physical Fitness Information

Past medical history

Body composition

Experience with respirators

Cardiac and Respiratory assessment

Hearing and vision assessment

Musculoskeletal assessment

Pregnancy history

Medication list

RECORD SOURCE CATEGORIES:

Records are obtained on paper and through IT systems directly from all individuals who register for, apply for, participate in, or assist with FEMA's training or exercise programs including FEMA employees and contractors, volunteers, other federal employees and other participants such as current and former fire, medical, emergency management, and law enforcement professionals; nongovernmental and volunteer disaster relief organizations; and private sector professionals such as flood insurance representatives, instructors, course developers, observers, and interpreters.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other federal agencies conducting litigation or proceedings before any court, adjudicative, or administrative body, when it is relevant and necessary to the litigation and one of the following is a party to the litigation or has an interest in such litigation:

1. DHS or any component thereof;

2. Any employee or former employee of DHS in his or her official capacity;

3. Any employee or former employee of DHS in his or her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

G. To an appropriate federal, state, local, tribal, territorial, foreign, or international government agency, law enforcement agency, or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To federal, state, local, tribal, territorial, foreign, international government agency, or non-profit/non-governmental entity if necessary to obtain information relevant to a DHS decision concerning the hiring or retention of an employee, the issuance of a security clearance, the reporting of an investigation of an employee, the letting of a contract, or the issuance of a license, grant, or other benefit.

J. To federal, state, local, tribal, territorial, foreign, international government agency, or non-profit/non-governmental entity in response to its request, in connection with the hiring of a prospective employee or retention of an employee, the issuance of a security clearance, the reporting of an investigation of an employee, the letting of a contract, the issuance of a license, grant, or other benefit by the requesting agency, or for general inquiries by a state agency or state entity in connection with monitoring status and activities of its employees, to the extent that the information is relevant and necessary to the requesting agency's role and authority on such decisions and matters.

K. To physician(s) in order to provide information about a student or participant in need of medical care and who is unable to provide the information him- or herself.

L. To members of the National Fire Academy (NFA) and Emergency Management Institute (EMI) Boards of Visitors federal advisory committees for the purpose of evaluating NFA's and EMI's programmatic statistics.

M. To a federal, state, local, tribal, territorial, foreign, international government agencies or non-profit/non-governmental entity for a statistical or research purpose, including the development of methods or resources to support statistical or research activities, provided that the records support DHS programs and activities that relate to the purpose(s) stated in this SORN, and will not be used in whole or in part in making any determination regarding an individual's rights, benefits, or privileges under federal programs, or published in any manner that identifies an individual.

N. To Department of Treasury for the processing and issuance of stipend payments to reimburse training, exercise, housing, or conference related expenses.

O. To federal, state, local, tribal, territorial, foreign, international government agencies, non-profit/non-governmental entity, or educational institutions for the maintenance/updating of student academic records (such as transcripts).

P. To other federal agencies that support FEMA's training and exercise efforts through use of IT system(s).

Q. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

POLICIES AND PRACTICES FOR STORAGE OF RECORDS:

DHS/FEMA stores records in this system electronically or on paper in secure facilities in a locked drawer behind a locked door. The records may be stored on magnetic disc, tape, and digital media.

POLICIES AND PRACTICES FOR RETRIEVAL OF RECORDS:

Records may be retrieved by an individual's name, SSN, or unique user ID.

POLICIES AND PRACTICES FOR RETENTION AND DISPOSAL OF RECORDS:

FEMA's training and exercise records retention is generally covered under General Records Schedule (GRS) 2.6 item 10 and NARA Authority N1-311-08-2 1A. Under GRS 2.6 item 10, records are temporary, destroyed when 3 years old, or 3 years after superseded or obsolete, whichever is appropriate. Under NARA Authority N1-311-08-2 1A, records are retired to the Federal Records Center (FRC) five years after the cutoff and destroyed forty years after the cutoff. Finally, in accordance with OSHA 29 CFR 1910.1020(d)(1)(i), medical records are retained for at least thirty years and then destroyed.

ADMINISTRATIVE, TECHNICAL, AND PHYSICAL SAFEGUARDS:

FEMA safeguards records in this system in accordance with applicable rules and policies, including all applicable DHS automated systems security and access policies. FEMA imposes strict controls to minimize the risk of compromising the information it stores. Access to the computer system containing the records in this system is limited to those individuals who have a need to know the information for the performance of their official duties and who have appropriate clearances or permissions.

RECORD ACCESS PROCEDURES:

The Secretary of Homeland Security has exempted this system from the notification, access, and amendment procedures of the Privacy Act because it is a testing and evaluation system. However, DHS/FEMA will consider individual requests to determine whether or not information may be released. Individuals seeking notification of or access to any record contained in this system of records, or seeking to contest its content, may submit a request in writing to the Chief Privacy Officer and FEMA's Freedom of Information Act (FOIA) Officer whose contact information can be found at https://www.dhs.gov/foia-contact-information. If an individual believes more than one component maintains Privacy Act records concerning him or her, the individual may submit the request to the Chief Privacy Officer and Chief Freedom of Information Act Officer, Department of Homeland Security, Washington, DC 20528-0655, or electronically by https://www.dhs.gov/dhs-foia-privacy-act-request-submission-form.

Even if neither the Privacy Act nor the Judicial Redress Act provide a right of access, certain records about you may be available under the Freedom of Information Act.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. An individual may obtain more information about this process at https://www.dhs.gov/foia. In addition, you should:

Explain why you believe the Department would have information on you; Identify which component(s) of the Department you believe may have the information about you; Specify when you believe the records would have been created; Provide any other information that will help the FOIA staff determine which DHS component agency may have responsive records.

If your request is seeking records pertaining to another living individual, you must include a statement from that individual certifying his/her agreement for you to access his/her records.

Without the above information, the component(s) may not be able to conduct an effective search, and your request may be denied due to lack of specificity or lack of compliance with applicable regulations.

CONTESTING RECORD PROCEDURES:

For records covered by the Privacy Act or covered JRA records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record.

NOTIFICATION PROCEDURES:

See “Record Access Procedure” above.

EXEMPTIONS PROMULGATED FOR THE SYSTEM:

The Secretary of Homeland Security, pursuant to 5 U.S.C. 552a(k)(6) has exempted this system from the following provisions of the Privacy Act: 5 U.S.C. 552a(c)(3); (d); (e)(1), (e)(4)(G), (e)(4)(H), (e)(4)(I); and (f).

HISTORY:

January 22, 2015, 80 FR 3241.

Lynn Parker Dupree,
Chief Privacy Officer, Department of Homeland Security.

[FR Doc. 2022-22450 Filed 10-14-22; 8:45 am]

BILLING CODE 9110-17-P